DEPARTMENT OF TRANSPORTATION

Federal Aviation Administration

14 CFR Part 71

[Docket No. FAA-2008-0861; Airspace Docket No. 08-AWP-8]

RIN 2120-AA66

Amendment of Class D Airspace; Anderson AFB, GU; Guam International Airport, GU; and Saipan International Airports, CQ

AGENCY: Federal Aviation Administration (FAA), DOT.

ACTION: Final rule.

SUMMARY: This action amends the legal descriptions for Anderson AFB, and the Guam and Saipan International Airports. The Guam Air Route Traffic Control Center personnel conducted a review of their airspace and determined that current airspace descriptions needed to be updated. These are editorial revisions to reflect name changes and to update coordinates of the facilities. The changes will not affect the current area boundaries, altitudes, or the times of designation.

DATES: Effective Date: 0901 UTC, May 7, 2009. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Background

During an airspace review conducted Guam ARTCC personnel it was determined that the Class D airspace descriptions in their area of responsibility were outdated and required revision. They are editorial revisions to reflect name changes and to update airport reference point coordinates. This change does not affect the current area boundaries, altitudes, or the times of designation.

Class D Airspace descriptions are published in paragraph 5000 of FAA Order 7400.9S signed October 3, 2008, and effective October 31, 2008, which is incorporated by reference in 14 CFR 71.1. The Class D Airspace descriptions listed in this document will be published subsequently in the Order.

The Rule

This action amends Title 14 Code of Federal Regulations (14 CFR) part 71 by revising the description of Guam Island Anderson AFB, and Guam International Airport, by inserting the city name into each Class D airspace description. The Saipan Island Class D airspace description is amended by removing reference to the Saipan RBN and to the Airport Facility Directory. Additionally, this action updates the airport reference points.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as they are editorial revisions to reflect name changes and updates the coordinates of the facilities.

Environmental Review

The FAA has determined that this action qualifies for categorical exclusion under the National Environmental Policy Act in accordance with 311d., FAA Order 1050.1E, “Environmental Impacts: Policies and Procedures.” This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9S, Airspace Designations and Reporting Points, signed October 3, 2008, and effective October 31, 2008 is amended as follows:

Paragraph 5000 Class D airspace areas.

* * * * *

AWP GU D Guam Island, GU [Remove]

Guam Island Andersen AFB, GU

* * * * *

AWP GU D Andersen AFB, GU [New]

Yigo, Andersen AFB, GU

(Lat. 13°35′02″ N., long. 144°55′48″ E.)

That airspace extending upward from the surface to and including 2,600 feet MSL within a 4.3-mile radius of Andersen AFB.

* * * * *

AWP GU D Guam International Airport, GU [Remove]

Guam International Airport, GU

* * * * *

AWP GU D Guam International Airport, GU [New]

Tiyan, Guam International Airport, GU

(Lat. 13°29′02″ N., long. 144°47′50″ E.)

That airspace extending upward from the surface to and including 2,600 feet MSL within a 4.3-mile radius of Guam International Airport.

* * * * *

AWP CQ D Saipan Island, CQ [Amend]

Saipan International Airport, CQ

(Lat. 15°07′08″ N., long. 145°43′46″ E.)

That airspace extending upward from the surface to and including 2,700 feet MSL within a 4.3-mile radius of Saipan International Airport.

* * * * *

Issued in Washington, DC, February 18, 2009.
Paul Gallant,
Acting Manager, Airspace and Rules Group.

[FR Doc. E9-3904 Filed 2-25-09; 8:45 am]

BILLING CODE 4910-13-P